NUCLEAR REGULATORY COMMISSION

Public Meeting on 10 CFR Part 70, Integrated Safety Analysis Guidance Document, Standard Review Plan Chapter 11 and Streamlining Licensing Reviews

AGENCY: Nuclear Regulatory Commission.

ACTION: Notice of meeting.

SUMMARY: NRC will host a public meeting in Rockville, Maryland. The meeting will provide an opportunity for discussion of: (1) The Draft Integrated Safety Analysis guidance document prepared by the industry; and (2) Chapter 11, Management Measures, in the Standard Review Plan (SRP) for fuel cycle facilities (NUREG-1520) that was made available during April 2000.

The revised SRP can be reviewed on the internet at the following website: http://techconf.llnl.gov/cgi-bin/downloader/Part_70_lib/073-0098.htm. At the end of the SRP discussion, a program developed by the Fuel Cycle staff to streamline licensing reviews and actions will be discussed.

Purpose

This meeting will provide an opportunity to discuss: (1) The Draft Integrated Safety Analysis guidance document prepared by the industry; and (2) Chapter 11, Management Measures, in the Standard Review Plan (SRP) for fuel cycle facilities (NUREG-1520) that was made available during April 2000. At the end of the SRP discussion, a program developed by the Fuel Cycle staff to streamline licensing reviews and actions will be presented.

DATES: The meeting is scheduled for Thursday, June 8, 2000, from 9:30-4 and Friday, June 9, 2000, from 9-4. The discussion of the Draft Integrated Safety Analysis guidance document is scheduled for June 8 from 9:30-11:30 followed by the SRP Chapter 11 discussion from 1-4, and continuing on the morning of June 9, 2000, if needed. This meeting is open to the public.

ADDRESSES: The meeting will be held in the Atomic Safety Licensing Board Hearing Room at Two White Flint North, Room T-3-B-45, 11545 Rockville Pike, Rockville, Maryland. Visitor parking around the NRC building is limited; however, the meeting site is located adjacent to the White Flint Station on the Metro Red line.

FOR FURTHER INFORMATION CONTACT: Andrew Persinko, Office of Nuclear Material Safety and Safeguards, U.S. Nuclear Regulatory Commission, Washington, DC 20555, telephone: (301) 415-7190, e-mail axp1@nrc.gov.

Dated at Rockville, Maryland this 1st day of June 2000.
For the Nuclear Regulatory Commission.
Theodore S. Sherr,
Chief, Licensing and International Safeguards Branch, Division of Fuel Cycle Safety and Safeguards, NMSS.

[FR Doc. 00-14190 Filed 6-5-00; 8:45 am]

BILLING CODE 7590-01-P